DEPARTMENT OF HEALTH AND HUMAN SERVICES

Substance Abuse and Mental Health Services Administration

Agency Information Collection Activities: Submission for OMB review; comment request

Periodically, the Substance Abuse and Mental Health Services Administration (SAMHSA) will publish a list of information collection requests under OMB review, in compliance with the Paperwork Reduction Act (44 U.S.C. Chapter 35). To request a copy of these documents, call the SAMHSA Reports Clearance Officer on (301)443-7978.

Drug and Alcohol Services Information System (DASIS) (OMB No. 0930-0106, Revision)—The DASIS consists of three related data systems: the National Master Facility Inventory (NMFI), the Uniform Facility Data Set (UFDS), and the Treatment Episode Data Set (TEDS). The NMFI includes all known substance abuse treatment facilities. The UFDS is an annual survey of all substance abuse treatment facilities listed in the NMFI. The TEDS is a compilation of client-level admission data and discharge data submitted by States on clients treated in facilities that receive State funds. Together, they provide information on the location, scope and characteristics of all known drug and alcohol treatment facilities in the United States, and the characteristics of clients receiving services. This information is needed to assess the nature and extent of these resources, to identify gaps in services, and to provide a database for treatment referrals.

This request is for OMB approval of proposed revisions to the annual UFDS survey. Several major changes are proposed, including: (1) The UFDS survey will be conducted by mail, rather than by telephone; (2) Non-treatment (prevention) facilities will no longer be included in the annual survey; (3) Some questions will be reinstated (e.g., whether facility provides DUI/DWI services, percent of clients treated for alcohol abuse, drug abuse, or both); (4) Several questions will be added (e.g., whether facility treats only incarcerated or DUI/DWI clients, whether services are provided in languages other than English, availability of fully subsidized care or a sliding fee scale, receipt of public funding); (5) Some questions will be deleted (e.g., whether facility is a school, social services agency, community mental health center, community health center, or private group practice; facility accreditation; percent of clients being treated for substance abuse); (6) Several questions will be revised. Changes to the TEDS and NMFI are not planned.

Estimated annual burden for the DASIS activities is shown in the table below.

Type of respondent and activity | Number of respondents | Responses/respondent | Hours/response | Total hours
States:
TEDS Admission Data ¹ | 52 | 4 | 6 | 1,248
TEDS Discharge Data ¹ | 13 | 4 | 6 | 312
TEDS Discharge Crosswalks ¹ | 5 | 1 | 10 | 50
NFR Update1, 2
Additions | 56 | 17 | 0.08 | 76
Revisions | 56 | 24 | 0.05 | 67
State Subtotal¹ | 56 |  |  | 1,753
Facilities
Network Update | 1,000 | 1 | .1 | 100
UFDS Questionnaire | 19,000 | 1 | .6 | 11,400
Pre-screening of newly-identified facilities | 2,000 | 1 | .08 | 160
Facility Subtotal | 21,000 |  |  | 11,660
Total | 21,056 |  |  | 13,413
¹ The burden estimates for these activities are unchanged.
² States forward to SAMHSA information on newly licensed/approved facilities and on changes in facility name, address, status, etc. This is done electronically by nearly all States.

Written comments and recommendations concerning the proposed information collection should be sent within 30 days of this notice to: Clarissa Rodrigues-Coelho, Human Resources and Housing Branch, Office of Management and Budget, New Executive Office Building, Room 10235, Washington, D.C. 20503.

Dated: April 12, 2000.
Richard Kopanda,
Executive Officer, SAMHSA.

[FR Doc. 00-9957 Filed 4-20-00; 8:45 am]

BILLING CODE 4162-20-P